DEPARTMENT OF DEFENSE

GENERAL SERVICES ADMINISTRATION

NATIONAL AERONAUTICS AND SPACE ADMINISTRATION

48 CFR Parts 5, 25, and 52

[FAC 2005-32; Docket 2009-0003; Sequence 3]

Federal Acquisition Regulation; FAC 2005-32, Technical Amendments

AGENCIES: Department of Defense (DoD), General Services Administration (GSA), and National Aeronautics and Space Administration (NASA).

ACTION: Technical amendments.

SUMMARY: This document makes amendments to the Federal Acquisition Regulation (FAR), Federal Acquisition Circular (FAC) 2005-32, published in the Federal Register at 74 FR 14622-14652, on March 31, 2009, in order to make editorial and correcting changes.

DATES: Effective Date: May 14, 2009.

FOR FURTHER INFORMATION CONTACT: The Regulatory Secretariat, 1800 F Street, NW., Room 4041, Washington, DC 20405, (202) 501-4755, for information pertaining to status or publication schedule. Please cite FAC 2005-32, Technical Amendments.

SUPPLEMENTARY INFORMATION: This document makes amendments to the Federal Acquisition Regulation (FAR), Federal Acquisition Circular (FAC) 2005-32, published in the Federal Register at 74 FR 14622-14652, on March 31, 2009, in order to make editorial and correcting changes.

List of Subjects in 48 CFR Parts 5, 25, and 52

Government procurement.

Therefore, DoD, GSA, and NASA amend 48 CFR parts 5, 25, and 52 as set forth below:

1. The authority citation for 48 CFR parts 5, 25, and 52 continues to read as follows:

Authority: 40 U.S.C. 121(c); 10 U.S.C. chapter 137; and 42 U.S.C. 2473(c).

PART 5—PUBLICIZING CONTRACT ACTIONS

5.705 [Amended]

2. Amend section 5.705 in the table that follows paragraph (b) by removing, from the second column, the heading “Posting Rationale on Special Section of Recovery.Gov” and adding “Rationale Required” in its place; and by removing, from the sixth row, second column, the colon and adding an em dash in its place.

PART 25—FOREIGN ACQUISITION

3. Amend section 25.200 by adding paragraph (c) to read as follows:

25.200 Scope of subpart.

(c) When using funds appropriated or otherwise provided by the American Recovery and Reinvestment Act of 2009 (Pub. L. 111-5) (Recovery Act) for construction, see Subpart 25.6.

4. Amend section 25.1102 by removing from paragraph (c)(3) “other than Mexico” and adding “other than Bahrain, Mexico, and Oman” in its place; and revising paragraphs (e)(2)(i) and (e)(2)(ii) to read as follows:

25.1102 Acquisition of construction.

(e) * * *

(2) * * *

(i) Basic clause. List all foreign construction materials excepted from the Buy American Act or section 1605 of the the Recovery Act, other than Recovery Act designated country construction material.

(ii) Alternate I. List in paragraph (b)(3) of the clause all foreign construction material excepted from the Buy American Act or section 1605 of the Recovery Act, unless the excepted foreign construction material is from a Recovery Act designated country other than Bahrain, Mexico, or Oman.

PART 52—SOLICITATION PROVISIONS AND CONTRACT CLAUSES

52.204-11 [Amended]

5. Amend section 52.204-11 in paragraph (a), in the definition “Total Compensation” by removing the period after the paragraph (6) designation.

6. Amend section 52.212-5 by—

a. Revising the date of the clause;

b. Revising paragraphs (b)(3), (b)(16), and (b)(18);

c. Removing and reserving paragraph (e)(1)(iii); and

d. In Alternate II by—

1. Revising the date of the Alternate;

2. Redesignating paragraphs (e)(1)(ii)(B) through (e)(1)(ii)(M) as paragraphs (e)(1)(ii)(C) through (e)(1)(ii)(N), respectively; and adding a new paragraph (e)(1)(ii)(B); and

3. Removing from the newly designated paragraph (e)(1)(ii)(J) “2.222-51” and adding “52.222-51” in its place.

The revised and added text reads as follows:

52.212-5 Contract Terms and Conditions Required to Implement Statutes or Executive Orders—Commercial Items.

* * * * *

CONTRACT TERMS AND CONDITIONS REQUIRED TO IMPLEMENT STATUTES OR EXECUTIVE ORDERS—COMMERCIAL ITEMS “(MAY 2009)”

(b) * * *

(3) 52.203-15, Whistleblower Protections under the American Recovery and Reinvestment Act of 2009 (MAR 2009) (Section 1553 of Pub. L. 111-5). (Applies to contracts funded by the American Recovery and Reinvestment Act of 2009.)

__(16) 52.219-26, Small Disadvantaged Business Participation Program—Incentive Subcontracting (OCT 2000) (Pub. L. 103-355, section 7102, and 10 U.S.C. 2323).

__(18) 52.219-28, Post Award Small Business Program Rerepresentation (APR 2009) (15 U.S.C. 632(a)(2)).

* * * * *

Alternate II “(MAY 2009)”. * * *

(e)(1) * * *

(ii) * * *

(B) 52.203-15, Whistleblower Protections Under the American Recovery and Reinvestment Act of 2009 (MAR 2009) (Section 1553 of Pub. L. 111-5).

Federal Acquisition Circular

Federal Acquisition Circular (FAC) 2005-32, Technical Amendments, is issued under the authority of the Secretary of Defense, the Administrator of General Services, and the Administrator for the National Aeronautics and Space Administration.

Unless otherwise specified, all Federal Acquisition Regulation (FAR) and other directive material contained in FAC 2005-32, Technical Amendments is effective May 14, 2009.

Dated: May 5, 2009.
Amy G. Williams,
Acting Deputy Director, Defense Procurement and Acquisition Policy (Defense Acquisition Regulations System).

Dated: May 6, 2009.
Rodney P. Lantier,
Acting Senior Procurement Executive & Acting Deputy Chief Acquisition Officer, Office of the Chief Acquisition Officer, U.S. General Services Administration.

Dated: May 4, 2009.
William P. McNally,
Assistant Administrator for Procurement, National Aeronautics and Space Administration.

[FR Doc. E9-11039 Filed 5-13-09; 8:45 am]

BILLING CODE 6820-EP-S